FEDERAL TRADE COMMISSION

16 CFR Part 250

Extension of Time for Comments Concerning the Guides for the Household Furniture Industry

AGENCY: Federal Trade Commission.

ACTION: Notice of extension of comment period.

SUMMARY: The Federal Trade Commission (the “Commission”) has extended the date by which comments must be submitted concerning the review of its Guides for the Household Furniture Industry (“Household Furniture Guides” or the “Guides”). The Commission solicited comments until June 9, 2000. In response to a request from an industry trade association, the Commission grants an extension of the comment period until July 10, 2000.

DATES: Written comments will be accepted until July 10, 2000.

ADDRESSES: Written comments should be submitted to Office of the Secretary, Federal Trade Commission, Room H-159, 600 Pennsylvania Ave., NW., Washington, DC 20580. Comments should be identified as “Household Furniture Industry Guides, 16 CFR Part 250—Comment.” If possible, submit comments both in writing and on a personal computer diskette in Word Perfect or other word processing format (to assist in processing, please identify the format and version used). Written comments should be submitted, when feasible and not burdensome, in five copies.

FOR FURTHER INFORMATION CONTACT: Ingrid Whittaker-Ware, Attorney, Southeast Region, Federal Trade Commission, 60 Forsyth Street, SW., Atlanta, Georgia 30303, telephone number (404) 656-1364. E-mail address (for questions or information only): “Furniture@FTC.gov”.

SUPPLEMENTARY INFORMATION: On April 10, 2000, the Commission published in the Federal Register a request for public comments on the overall costs, benefits and the continuing need for its Guides for the Household Furniture Industry 16 CFR part 250, as part of its regulatory review program, 65 FR 18933. The Guides are voluntary guidelines issued by the Commission to assist members of the furniture industry in complying with section 5 of the FTC Act. The Federal Register Notice (“notice”) posed eleven questions in all; some were general regulatory review questions, while others asked about material issues that are specific to the household furniture industry. Pursuant to the Federal Register notice, the comment period relating to the Household Furniture Guides currently ends on June 9, 2000.

The Commission received a request for an extension of the comment period from the American Furniture Manufacturers Association (“AFMA”). AFMA has indicated that additional time is required so that its members can prepare thorough, thoughtful responses to the proposals and questions contained in the Federal Register notice.

The Commission is mindful of the need to deal with this matter as expeditiously as possible. However, the Commission is also aware that some of the issues raised by the Federal Register notice may be complex and it welcomes as much substantive input as possible to facilitate its decisionmaking process. Accordingly, in order to provide sufficient time for these and other interested parties to prepare useful comments, the Commission has decided to extend the deadline for comments until July 10, 2000.

Authority: 15 U.S.C. 41-58.

List of Subjects in 16 CFR Part 250

Forest and forest products, Furniture industry, Trade practices.

By direction of the Commission.
Donald S. Clark,
Secretary.

[FR Doc. 00-14975 Filed 6-13-00; 8:45 am]

BILLING CODE 6750-01-M